DEPARTMENT OF JUSTICE

Office of Justice Programs

Agency Information Collection Activities: Proposed Collection; Comment Request

ACTION: Notice of Information Collection Under Review; Reinstatement with changes of a previously approved collection for which approval has expired: The Survey of Inmates in Local Jails Pretest.

The Department of Justice, Office of Justice Programs, has submitted the following information collection request to the Office of Management and Budget for review and clearance in accordance with the Paperwork Reduction Act of 1995. This proposed information collection is published to obtain comments from the public and affected agencies. Comments are encouraged and will be accepted until December 18, 2000.

Request written comments and suggestions from the public and affected agencies concerning the proposed collection of information. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

If you have additional comments, suggestions, or additional information, especially regarding the estimated public burden and associated response time, please write to Dr. Jan M. Chaiken, Director, Bureau of Justice Statistics, 810 Seventh St. NW., Washington, DC 20531. If you need a copy of the collection instruments with instructions, or have additional information, please contact Doris James Wilson at (202) 616-3625.

Overview of this information collection:

(1) Type of information collection: Reinstatement with changes of a previously approved collection for which approval has expired.

(2) The title of the Form/Collection: The Survey of Inmates in Local Jails Pretest.

(3) The agency form number and the applicable component of the Department sponsoring the collection: Forms: SIJ-43(X) CAPI instrument; and SIJ-50(X) Sampling Questionnaire. Corrections Statistics, Bureau of Justice Statistics, Office of Justice Programs, United States Department of Justice.

(4) Affected public who will be asked to respond, as well as a brief abstract: Primary: Individuals and households. Others: State and local governments. The pretest will include an estimated 100 personal interviews with inmates held in local facilities. The pretest will approximate the national survey including a full scale implementation of the CAPI questionnaire, automated data control systems, sample selection instruments, and procedures related to the National Survey. This is a pretest for a survey that will profile jail inmates nationwide to determine trends in inmate composition, criminal history, drug abuse, mental and medical status, gun use and crime, and to report on victims of crime. This pretest will allow us to identify problems and to make improvements prior to the national survey to ensure an accurate data set. The data from the national survey will be used by the Bureau of Justice Statistics in published reports and the U.S. Congress, Executive Office of the President, practitioners, researchers, students, the media, and others interested in criminal justice statistics. No other collection series provides these data.

(5) An estimate of the total number of respondents and the amount of time needed for an average respondent to respond: 100 personal interviews each taking an average 1 hour to respond.

(6) An estimate of the total public burden (in hours) associated with the collection: 100 annual burden hours.

If additional information is required, contact: Mr. Robert B. Briggs, Clearance Officer, United States Department of Justice, Information Management and Security Staff, Justice Management Division, Suite 1220, 1331 Pennsylvania Ave., NW., National Place Building, Washington, DC 20530.

Dated: October 13, 2000.
Robert B. Briggs,
Department Clearance Officer, Department of Justice.

[FR Doc. 00-26923 Filed 10-18-00; 8:45 am]

BILLING CODE 4410-18-M